NATIONAL SCIENCE FOUNDATION

Proposal Review Panel for Physics; Notice of Meeting

In accordance with the Federal Advisory Committee Act (Pub. L. 92-463, as amended), the National Science Foundation announces the following meeting.

Name: Proposal Review Panel for Physics, LIGO Site Visit in Louisiana (1208).

Date and Time:

Tuesday, December 1, 2009; 8 a.m.-6:30 p.m.

Wednesday, December 2, 2009: 8 a.m.-6 p.m.

Thursday, December 3, 2009; 8:30 a.m.-12 p.m.

Place: LIGO Observatory in Livingston, Louisiana.

Type of Meeting: Partially Closed.

Contact Person: Dr. Thomas Carruthers, Program Director for LIGO, National Science Foundation, 4201 Wilson Blvd., Arlington, VA 22230. Telephone: (703) 292-7373.

Purpose of Meeting: To provide an evaluation concerning the proposal submitted to the National Science Foundation.

Agenda:

Tuesday. December 1, 2009

Closed—8:30 a.m.-9 a.m. Executive Session;

Open—9:15 a.m.-10:15 a.m. LIGO status, accomplishments, plans;

Closed—10:30 a.m.-12 p.m. Management topics and status of data; analysis;

Open—1 p.m.-2:30 p.m. Tour and facilities maintenance;

Closed—2:30 p.m.-6:30 p.m. Cybersecurity, EPO, LSC status and Executive Session.

Wednesday, December 2, 2009

Closed—8:30 a.m.-12 p.m. Project overview and Project Management status;

Closed—1:30 p.m.-6 p.m. Technical Progress, Development, R&D support.

Executive Session

Thursday, December 3, 2009

Closed—8:30 a.m.-12 p.m. Executive Session, report writing, Close Out report.

Reason for Closing: The proposal contains proprietary or confidential material including technical information; financial data, such as salaries; and personal information concerning individuals associated with the proposals. These matters are exempt under 5 U.S.C. 552b(c) and (6) of the Government in the Sunshine Act.

Dated: November 3, 2009.
Susanne Bolton,
Committee Management Officer.

[FR Doc. E9-26784 Filed 11-5-09; 8:45 am]

BILLING CODE 7555-01-P